NUCLEAR REGULATORY COMMISSION

[NRC-2009-0013]

Safety Culture Policy Statement Development: Public Meeting and Request for Public Comments

AGENCY: U.S. Nuclear Regulatory Commission (NRC).

ACTION: Notice of Public Meeting and request for comments.

SUMMARY: The NRC is developing an update to its policy statement on safety culture to include the unique aspects of security and to ensure that the policy applies to all licensees and certificate holders. The NRC is conducting a public meeting to solicit public input on topics relating to the development of the policy statement. In addition to announcing the public meeting, the NRC is using this notice to request comments on the topics discussed in this notice. These topics can be found in section D (Topics for Discussion) of the SUPPLEMENTARY INFORMATION.

DATES: Public Meeting Dates: The NRC will take public comments at the public meeting on February 3, 2009.

Comment Dates: Comments are requested by February 11, 2009. Comments received after this date will be considered if it is practical to do so, but the NRC is able to assure consideration only for comments received on or before this date. The NRC will also take public comments on the questions raised in this notice at a public meeting on February 3, 2009. Please refer to the SUPPLEMENTARY INFORMATION section for additional information, including the topics and associated questions to which NRC is requesting input.

ADDRESSES: The public meeting will be held on February 3, 2009, in the Commissioners' Hearing Room of the NRC Headquarters building at 11555 Rockville Pike, Rockville, MD 20852, which is across the street from the White Flint Metro stop. The most convenient transportation to the meeting venue is via Metro since there is extremely limited on-street parking. Please take Metro to the White Flint Metro stop on the Red Line. Please allow time to register with building security and to check with the entry guard station for signs for the Safety Culture Policy Statement Public Meeting room as you enter the building. Users unable to travel to the NRC Headquarters may participate by Webinar or teleconference. Please see the meeting notice, which is posted on the NRC public meeting schedule Web site: http://www.nrc.gov/public-involve/public-meetings/index.cfm?fuseaction=Search.Detail&MC=20080837&NS=0&CFID=264654&CFTOKEN=94010205, for instructions on how to register for the workshop.

After the conduct of the public meeting, members of the public are invited and encouraged to submit comments by February 11, 2009, by mail to June Cai, Concerns Resolution Branch, Office of Enforcement, Mail Stop O-4 A15A, U.S. Nuclear Regulatory Commission, Washington, DC 20555-0001, or by e-mail to june.cai@nrc.gov.

To ensure efficient consideration of your comments, please identify the related topic and specific question numbers with your comments when applicable. When commenting, please exercise caution with regard to site-specific security-related information. Comments will be made available to the public in their entirety. Personal information, such as your name, address, telephone number, e-mail address, etc. will not be removed from your submission.

You can access publicly available documents related to this notice using the following methods:

NRC's Public Document Room (PDR): The public may examine and have copied for a fee, publicly available documents at the NRC's PDR, Public File Area O-1 F21, One White Flint North, 11555 Rockville Pike, Rockville, Maryland.

NRC's Agencywide Documents Access and Management System (ADAMS): Publicly available documents created or received at the NRC after November 1, 1999, are available electronically at the NRC's Electronic Reading Room at http://www.nrc.gov/reading-rm/adams.html. From this site, the public can gain entry into ADAMS, which provides text and image files of NRC's public documents. If you do not have access to ADAMS or if there are problems in accessing the documents located in ADAMS, contact the PDR Reference staff at 1-800-397-4209, (301) 415-4737 or by e-mail to pdr.resource@nrc.gov.

FOR FURTHER INFORMATION CONTACT: June Cai, (301) 415-5192, june.cai@nrc.gov of the Office of Enforcement, U.S. Nuclear Regulatory Commission, Washington, DC 20555-0001. Public meeting attendees are requested to register with one of the meeting contacts by January 30, 2009. Please let the meeting contacts know if special services, such as for the hearing impaired, are necessary.

SUPPLEMENTARY INFORMATION: A. Purpose of the Public Meeting: The purpose of this meeting is to solicit the views of interested stakeholders on topics related to safety culture that were provided in the Commission's Staff Requirements Memoranda (SRM)-COMGBJ-08-0001 (ML080560476), “A Commission Policy Statement on Safety Culture,” dated February 25, 2008, which are presented in Section D, below. The NRC will consider the input received during the meeting in the development of the draft policy statement(s) addressing safety culture and security culture.

B. Public Meeting Agenda: A meeting notice and detailed agenda is available on the NRC public meeting schedule Web site: http://www.nrc.gov/public-involve/public-meetings/index.cfm?fuseaction=Search.Detail&MC=20080837&NS=0&CFID=264654&CFTOKEN=94010205. The meeting notice has information on how to participate via Webinar or teleconference. Concurrent with the meeting, there will be an open house poster session throughout the day to provide additional opportunities for attendees to provide input. The information presented at the open house will also be made available at the Web site listed above, to allow those unable to attend the meeting or attending through the Webinar or teleconference to view the information and have an opportunity to provide their input on the topics addressed at the open house.

C. Background: The NRC recognizes the importance of licensees to establish and maintain a strong safety culture—a work environment where management and employees are dedicated to putting safety first. The Commission previously addressed this topic on January 24, 1989 (54 FR 3424) in “Policy Statement on the Conduct of Nuclear Power Plant Operations” (http://www.nrc.gov/about-nrc/regulatory/enforcement/54fr3424.pdf)—the Commission's policy statement on safety culture—where it described expectations for such a safety culture and how it supports the agency's mission to protect public health and safety. Although the policy statement was issued to make clear the Commission's expectation of utility management and licensed operators with respect to the conduct of nuclear power plant operations, the Commission intended for the policy statement to help foster the development and maintenance of a safety culture at every facility licensed by the NRC. In the Policy Statement, safety culture is described as “the necessary full attention to safety matters,” and the “personal dedication and accountability of all individuals engaged in any activity which has a bearing on the safety of nuclear power plants. A strong safety culture is one that has a strong safety-first focus.”

The Commission has referenced the International Nuclear Safety Advisory Group's (INSAG) definition of safety culture as follows: “Safety Culture is that assembly of characteristics and attitudes in organizations and individuals which establishes that, as an overriding priority, nuclear safety issues receive the attention warranted by their significance.”

On May 14, 1996, the Commission published its policy, “Freedom of Employees in the Nuclear Industry to Raise Safety Concerns without Fear of Retaliation” (61 FR 24336) (http://www.nrc.gov/about-nrc/regulatory/allegations/scwe-frn-5-14-96.pdf), which expressed the Commissions expectation that licensees and other employers subject to NRC authority will establish and maintain a safety conscious environment in which employees feel free to raise safety concerns, both to their management and to the NRC, without fear of retaliation. A safety conscious work environment is one facet of a strong safety culture. On August 25, 2005, the NRC issued Regulatory Issue Summary 2005-018 (ML052220239), “Guidance for Establishing and Maintaining a Safety Conscious Work Environment,” to provide guidance on maintaining a safety conscious work environment.

In SRM-COMGBJ-08-0001 (ML080560476), “A Commission Policy Statement on Safety Culture,” dated February 25, 2008, the Commission directed staff to “expand the Commission's policy of safety culture to address the unique aspects of security and to ensure the resulting policy is applicable to all licensees and certificate holders,” and to conduct a “broad review of issues related to safety culture as part of the effort for developing the oversight process and for revising or developing additional Commission Policy Statement(s).”

The Commission directed the staff to complete its evaluation, provide a recommendation to the Commission on how best to update the Commission policy, and provide draft policy statement(s) on safety culture to the Commission for its consideration. In its review, the staff should, at a minimum, evaluate the following key areas:

(1) Whether safety culture as applied to reactors needs to be strengthened.

(2) How to increase attention to safety culture in the materials area.

(3) How stakeholder involvement can most effectively be used to address safety culture for all NRC and Agreement State licensees and certificate holders, including any unique aspects of security. The staff should, as part of its public stakeholder outreach, reach out to all types of licensees and certificate holders, including power reactors (including new reactors), research and test reactors, fuel facilities, spent fuel shipping and storage cask vendors, and the materials community, including industrial, academic, and medical users. The assessment should also involve outreach activities to Members of Congress, the Agreement States, and other stakeholders.

(4) Whether publishing NRC's expectations for safety culture and for security culture is best accomplished in one safety/security culture statement or in two separate statements, one each for safety and security, while still considering the safety and security interfaces.

A Safety Culture Policy Statement Task Group and Steering Committee have been established to address this direction. The Task Group has been conducting review and analysis of various information and data sources in order to inform and provide the basis for the draft policy statement(s) and recommendations development. Examples of these sources are information from existing agency activities in the safety culture and security culture area and information and insights from relevant industry activities, international activities and organizations, and the organizational research literature.

The Task Group has also been conducting outreach activities with stakeholders to raise awareness of safety culture and to provide information about this activity. The Task Group is holding the public meeting on February 3, 2009, to provide opportunity for stakeholders to offer input on the draft policy statement(s) development and on key topics related to the Commission direction.

D. Topics for Discussion: The NRC is seeking input on key topics related to the direction from the Commission on the Safety Culture Policy Statement development. Specifically, the NRC is seeking input on the following topics:

1. Should NRC combine its expectations in the policy statement for safety culture and security culture or should NRC keep its expectations separate?

2. How should NRC increase attention by NRC, licensees, and certificate holders to safety culture in the materials area?

3. Does safety culture as applied to reactors needs to be strengthened?

Obtaining public input on these topics will be the focus of the February 3, 2009, public meeting. The NRC has developed a series of questions relating to each of these topics to foster discussion and to solicit specific information relating to the Commission direction.

The following format is used in the presentation of the topics below. Each topic is assigned a number and a short title, and a list of questions for consideration then follows. Each question, or set of questions, is also assigned a number. When providing written comments, please list the relevant topic and question numbers when appropriate.

Topic 1: Should NRC combine its expectations in the policy statement for safety culture and security culture or should NRC keep its expectations separate?

Q1.1. Within organizations, one can think about safety and security in different ways. For example, safety may take precedence over security, security may take precedence over safety, or both may be treated equally. Different types of licensees, certificate holders and organizations have a variety of experiences and perspectives. How do you generally view the relationship or hierarchy between safety and security functions and decision making?

Q1.2. While efforts to maintain safety and security have the same common goal of protecting public health and safety, there can be distinct differences in the approach used to achieve that goal and that may have competing outcomes. One example is how information is shared to mitigate risks, where increased sharing of information may contribute to maintaining safety, but presents increased security risks. Are there other examples where efforts to maintain safety and security require different approaches or result in competing outcomes that need to be addressed to achieve the desired outcome or goal?

Q1.3. When resolving differences or conflicts while seeking to maintain safety and security—such as when managing risk, sharing information, planning work, correcting problems, etc.—and where changes or actions that are taken to address either a safety issue or a security issue could have an adverse effect on the other (i.e., security or safety, respectively); what challenges does your organization face?

Q1.4. What challenges or complexities arise when licensees and certificate holders work with contractors and vendors where the organizations either take different approaches to resolving conflicting outcomes when they seek to maintain safety and security or the organizations may balance the conflicting outcomes of efforts to maintain safety and security differently?

Q1.5. What practices have been used to effectively address the conflicts to achieve the desired outcomes or goals?

Q1.6. Given that there are several ways to think about safety culture and security culture within organizations, the NRC wishes to express a policy in a way that best furthers its goals of protecting the public and environment and ensuring the secure use and management of radioactive materials.

If the above issues are viewed in terms of safety culture and security culture implementation, what benefits or challenges would licensees, certificate holders, Agreement States, or others foresee with a single policy statement? Two separate policy statements?

Q1.7. How can the NRC best express a policy that gives appropriate weight to safety culture and security culture across the range of licensees and certificate holders?

Q1.8. Given the diversity among the licensees and certificate holders regulated by the NRC and the Agreement States, how should the policy statement address any differences in emphasis on safety and security at the different types of licensees and certificate holders?

Topic 2: How should NRC increase attention by licensees and certificate holders to safety culture in the materials area?

Q2.1. What is the NRC doing that is working well to help materials licensees and certificate holders to maintain their safety culture and security culture?

Q2.2. What might the NRC do differently, or that it is not currently doing, to increase NRC, licensee, or certificate holder attention to safety culture at materials licensees and certificate holders?

Q2.3. How could the NRC better interact with materials licensees and certificate holders to help them to pay greater attention to maintaining their safety culture and/or security culture?

Q2.4. If the NRC expresses a policy for materials licensees and certificate holders to maintain safety culture and security culture, or made its references to safety culture and security culture more explicit in its interactions with these licensees and certificate holders, how would their performance change?

Q2.5. What should the NRC consider when developing policy statement(s) on safety culture and security culture?

Q2.5.1. What is the current level of understanding of materials licensees and certificate holders of the NRC's expectations that they maintain a safety culture that is cognizant of issues relating to security? How does this level of understanding change with the type of licensee or certificate holder?

Q2.5.2. How should the NRC consider the different activities (e.g., risk, type of material, quantities of materials, how the material is used, location, etc.) conducted at materials licensees and certificate holders when evaluating whether, or how, to express its policy?

Q2.5.3. How should NRC consider differences in the materials licensees and certificate holders (e.g., size of workforce, relationship to activities not regulated by the NRC, etc.) when evaluating whether, or how, to express its policy? What differences should the NRC consider?

Q2.5.4. What are the unique aspects of security at materials licensees and certificate holders that the NRC should consider when expressing its policy?

Q2.5.5. What topics should be addressed in the policy statement(s) that would be of value to materials licensees and certificate holders?

Q2.5.6. How could the policy statement(s) effectively address issues that involve both safety and security (at the safety/security interface) at materials licensees and certificate holders?

Q2.5.7. How can the NRC best express a policy that gives appropriate weight to safety culture and security culture across the range of licensees and certificate holders?

Q2.5.8. Given the diversity among the licensees and certificate holders regulated by the NRC and the Agreement States, how should the policy statement address any differences in emphasis on safety and security at the different types of licensees and certificate holders?

Q2.6. How should the NRC work with the Agreement States to encourage increased attention being focused on safety culture, including the unique aspects of security, at Agreement State licensees?

Q2.6.1. What is the level of understanding at Agreement State licensees regarding the value in maintaining safety culture and security culture?

Q2.6.2. What is the level of understanding of safety culture and security culture within the Agreement States?

Q2.6.3. How do the Agreement States view the NRC's goal of increasing the attention paid to safety culture and security culture at materials licensees and certificate holders?

Q2.6.4. What topics do the Agreement States believe should be addressed in the policy statement(s)?

Q2.6.5. How could the NRC help the Agreement States to increase attention to safety culture and security culture at their licensees?

Q2.6.6. How should the NRC address safety culture and security culture at Agreement State licensees that engage in activities within NRC jurisdiction under reciprocity?

Q2.6.7. How might NRC use stakeholder involvement to increase the attention that materials licensees and certificate holders give to maintaining a safety culture, including the unique aspects of security?

Topic 3: Does safety culture as applied to reactors need to be strengthened?

A number of enhancements were made to the ROP in 2006 to address safety culture (for example: safety culture cross-cutting aspect assignment to findings; identifying substantive cross-cutting issues; performing an independent NRC safety culture assessment for licensees in Column 4 of the ROP Action Matrix).

Q3.1. What are the strengths and weaknesses of the current approach for evaluating licensee safety culture in the ROP?

Q3.2. How has the use of safety culture cross-cutting aspects that are assigned to inspection findings helped to identify potential safety culture issues? Suggest any alternative approaches that licensees could use to identify potential safety culture issues.

Q3.3. What may be better or more effective methods or tools that the NRC could use to help identify precursors to future plant performance deficiencies?

Q.3.4. In the following situations the NRC may/or will request a licensee to perform a safety culture assessment (licensee self-assessment, independent assessment, or a third-party assessment): (a) The same substantive cross-cutting issue had been identified in three consecutive assessment letters (generated from assessments conducted at 6 month intervals); (b) a 95002 inspection (Inspection for One Degraded Cornerstone or Any Three White Inputs in a Strategic Performance Area) that confirmed the licensee had not identified a safety culture component that either caused or significantly contributed to the risk-significant performance issue that resulted in the supplemental inspection; and (c) a plant enters Column 4 of the Action Matrix.

Under what other situations should the NRC consider requesting that a licensee perform a safety culture assessment?

Another ROP enhancement was for the NRC to perform an independent safety culture assessment for plants that enter the multiple repetitive/degraded cornerstone column (column 4).

Q3.5. In what other circumstances might the NRC consider performing an independent safety culture assessment?

Q3.6. What other entity, other than the NRC, could perform an independent safety culture assessment or simply verify the results of the licensee's assessments and corrective actions?

Q3.7. What additional safety culture related ROP changes could help the NRC to improve the focus of NRC and licensee attention on site safety culture issues?

The NRC has held public meetings where draft changes to several ROP guidance documents resulting from a lessons learned evaluation of the initial implementation period of the ROP safety culture enhancements have been made available for public comment.

Q3.8. What areas beyond the draft changes (for example, a provision in Inspection Procedure 95003 for the NRC to be able to conduct a graded safety culture assessment) presented by the NRC have the potential to further enhance how the ROP addresses safety culture?

Q3.8.1. How would these potential changes enhance or improve how the NRC addresses safety culture through the ROP?

Q3.9. In what ways does the current process lead to consistency/predictability of implementation by the NRC? Provide examples to support your view.

Q3.9.1. In what ways does it lead to inconsistency or unpredictability?

Q3.10. How effective is the ROP in addressing security culture issues?

Q3.10.1. What ROP changes could help the NRC to improve the focus of NRC and licensee attention on site security culture issues?

In previous public meetings, the NRC has discussed using the ROP safety culture components and modified aspects as a tool to understand the challenges to safety culture during new reactor construction.

Q3.11. How can challenges to safety culture in new reactor construction be identified and addressed in regulatory oversight?

Dated at Rockville, Maryland, this 27th day of January, 2009.
For the Nuclear Regulatory Commission.
Stewart L. Magruder,
Deputy Director, Office of Enforcement.

[FR Doc. E9-2621 Filed 2-6-09; 8:45 am]

BILLING CODE 7590-01-P